DEPARTMENT OF THE INTERIOR

Fish and Wildlife Service

[FWS-R7-FHC-2011-N188; FF07CAMM00-FXFR13370700000L5-123]

Letters of Authorization To Take Marine Mammals

AGENCY: Fish and Wildlife Service, Department of the Interior.

ACTION: Notice of issuance.

SUMMARY: In accordance with the Marine Mammal Protection Act of 1972, as amended (MMPA), we, the Fish and Wildlife Service, have issued letters of authorization for the nonlethal take of polar bears and Pacific walrus incidental to oil and gas industry exploration, development, and production activities in the Beaufort Sea and the adjacent northern coast of Alaska and incidental to oil and gas industry exploration activities in the Chukchi Sea and the adjacent western coast of Alaska.

FOR FURTHER INFORMATION CONTACT: Craig Perham at the Fish and Wildlife Service, Marine Mammals Management Office, 1011 East Tudor Road, Anchorage, AK 99503; (800) 362-5148 or (907) 786-3810.

SUPPLEMENTARY INFORMATION: On August 2, 2006, we published in the Federal Register a final rule (71 FR 43926) establishing regulations that allow us to authorize the nonlethal, incidental, unintentional take of small numbers of polar bears and Pacific walrus during year-round oil and gas industry exploration, development, and production activities in the Beaufort Sea and adjacent northern coast of Alaska. The rule established subpart J in part 18 of title 50 of the Code of Federal Regulations (CFR) and was effective until August 2, 2011. New regulations were issued on August 3, 2011 (76 FR 47010), effective through August 3, 2016. The rule prescribed a process under which we issue Letters of Authorization (LOAs) to applicants conducting activities as described under the provisions of the regulations. In accordance with section 101(a)(5)(A) of the MMPA (16 U.S.C. 1361 et seq.) and our regulations at 50 CFR 18, subpart J, we issued an LOA to each of the following companies in the Beaufort Sea and adjacent northern coast of Alaska:

Beaufort Sea Letters of Authorization
Company | Activity | Project | Date issued
BP Exploration Alaska, Inc | Development | Liberty Development Project | January 20, 2011.
BP Exploration Alaska, Inc | Development | Red Dog #1 Plug and Abandonment Project | January 20, 2011.
Brooks Range Petroleum Corporation | Exploration | North Tarn Exploration Program | January 1, 2011.
Brooks Range Petroleum Corporation | Exploration | North Tarn Summer Clean Up and Field Studies | July 22, 2011.
ConocoPhillips Alaska, Inc | Exploration | Hydrate Production Test, Ignik Sikumi I, Prudhoe Bay Unit | January 3, 2011.
ConocoPhillips Alaska, Inc | Exploration | West Kuparuk 3D Seismic Exploration Program | January 3, 2011.
ConocoPhillips Alaska, Inc | Development | Puviaq #1 Plug and Abandonment Program | January 10, 2011.
Eni US Operating Co., Inc | Development | Nikaitchuq Development Program | May 15, 2011.
ExxonMobil Production Company | Development | Point Thomson | February 1, 2011.
ExxonMobil Production Company | Exploration | Seafloor Sediment Sampling Program | July 11, 2011.
FEX L.P | Development | Plug and Abandonment Project, Aklaqyaaq #1, Aklaq #2, and Aklaq #6 Wells | January 10, 2011.
Marsh Creek, LLC | Development | Corrective Action Activities, Umiat Test Well No. 9 | February 11, 2011.
North Slope Borough | Development | Gas Fields Well Drilling Program | April 15, 2011.
Olgoonik Fairweather, LLC | Exploration | Beaufort Sea Acoustic Monitoring Recorder Deployment and Retrieval Project | July 15, 2011.
Olgoonik Fairweather, LLC | Exploration | Central Beaufort Sea Fisheries Cruise Environmental Studies Program | July 15, 2011.
Pioneer Natural Resources Alaska, Inc | Development | Nuna Pre-Development Project | April 15, 2011.
Savant Alaska, LLC | Development | Badami Unit Redevelopment Project | February 7, 2011.
Shell Offshore, Inc | Development | Beaufort Sea Ice Observation and On-Ice Argos Data Buoy Deployment Program | January 10, 2011.
Shell Offshore, Inc | Exploration | Beaufort Sea Open Water Marine Survey Program and Onshore Environmental Baseline Study Activities | June 10, 2011.

On June 11, 2008, we published in the Federal Register a final rule (73 FR 33212) establishing regulations that allow us to authorize the nonlethal, incidental, unintentional take of small numbers of polar bears and Pacific walrus during year-round oil and gas industry exploration activities in the Chukchi Sea and adjacent western coast of Alaska. The rule established subpart I of 50 CFR part 18 and is effective until June 11, 2013. The rule prescribed a process under which we issue LOAs to applicants conducting activities as described under the provisions of the regulations. In accordance with section 101(a)(5)(A) of the MMPA and our regulations at 50 CFR 18, subpart I, we issued an LOA to the following companies in the Chukchi Sea:

Chukchi Sea Letters of Authorization
Company | Activity | Project | Date issued
Shell Offshore, Inc | Exploration | Chukchi Sea Ice Observation Flights Program | January 10, 2011.
Shell Offshore, Inc | Exploration | Chukchi Sea Coastal Marine and Onshore Environmental Baseline Study | May 15, 2011.
Shell Offshore, Inc | Exploration | Chukchi Sea Baseline Environmental Studies Program | July 29, 2011.
Statoil USA E&P, Inc | Exploration | Chukchi Sea Shallow Hazards Survey Project | June 20, 2011.

Dated: October 5, 2011.
E. LaVerne Smith,
Acting Regional Director, Alaska Region.

[FR Doc. 2011-28739 Filed 11-4-11; 8:45 am]

BILLING CODE 4310-55-P